DEPARTMENT OF COMMERCE

International Trade Administration

[C-570-971]

Multilayered Wood Flooring From the People's Republic of China: Final Results and Partial Rescission of Countervailing Duty Administrative Review; 2014

AGENCY: Enforcement and Compliance, International Trade Administration, Department of Commerce.

SUMMARY: The Department of Commerce (Department) has completed its administrative review of the countervailing duty (CVD) order on multilayered wood flooring (MLWF) from the People's Republic of China (PRC) for the January 1, 2014, through December 31, 2014, period of review (POR). We have determined that mandatory respondents Dalian Penghong Floor Products Co., Ltd. (Penghong) and Fine Furniture (Shanghai) Limited (Fine Furniture), and their cross-owned affiliates, where applicable, received countervailable subsidies during the POR. The final net subsidy rates are listed below in “Final Results of Administrative Review.” We are also rescinding the review for three companies that timely certified they made no shipments of subject merchandise during the POR.

DATES: Effective May 15, 2017.

FOR FURTHER INFORMATION CONTACT: Dennis McClure or Sergio Balbontin, AD/CVD Operations, Office VIII, Enforcement and Compliance, International Trade Administration, U.S. Department of Commerce, 1401 Constitution Avenue NW., Washington, DC 20230; telephone: (202) 482-5973 or (202) 482-6478, respectively.

SUPPLEMENTARY INFORMATION:

Background

The Department selected Penghong and Fine Furniture as mandatory respondents in this administrative review of the CVD Order on MLWF from the PRC.¹ The Department published the Preliminary Results of the administrative review in the Federal Register on January 9, 2017.² We invited interested parties to comment on the Preliminary Results. On February 8, 2017, we received case briefs from the Government of the People's Republic of China (GOC) and Fine Furniture.³ No party filed a rebuttal brief.

¹ See Multilayered Wood Flooring from the People's Republic of China: Countervailing Duty Order, 76 FR 76693 (December 8, 2011); see also Multilayered Wood Flooring from the People's Republic of China: Amended Antidumping and Countervailing Duty Orders, 77 FR 5484 (February 3, 2012), wherein the scope of the Order was modified (collectively, Order).

² See Multilayered Wood Flooring from the People's Republic of China: Preliminary Results of Countervailing Duty Administrative Review, Rescission of Review, in Part, and Intent to Rescind the Review in Part; 2014, 82 FR 2319 (January 9, 2017) (Preliminary Results), and accompanying Preliminary Decision Memorandum.

³ See Letters from the GOC, “Case Brief of the Government of the People's Republic of China,” and Fine Furniture, “Administrative Review of the Countervailing Duty Order on Multilayered Wood Flooring from the People's Republic of China: Case Brief,” dated February 8, 2017.

Scope of the Order

The product covered by the Order is multilayered wood flooring from the PRC. For a complete description of the scope of the order, see the Issues and Decision Memorandum.⁴

⁴ See Memorandum to Ronald K. Lorentzen, Acting Assistant Secretary for Enforcement and Compliance, from Gary Taverman, Associate Deputy Assistant Secretary for Antidumping and Countervailing Duty Operations, “Decision Memorandum for Final Results and Partial Rescission of Countervailing Duty Administrative Review: Multilayered Wood Flooring from the People's Republic of China; 2014” (Issues and Decision Memorandum), dated concurrently with, and hereby adopted by, this notice.

Analysis of Comments Received

All issues raised in the parties' briefs are addressed in the Issues and Decision Memorandum. A list of the issues addressed is attached to this notice at Appendix I. The Issues and Decision Memorandum is a public document and is on file electronically via Enforcement and Compliance's Antidumping and Countervailing Duty Centralized Electronic Service System (ACCESS). ACCESS is available to registered users at http://access.trade.gov and in the Central Records Unit, Room B8024 of the main Department building. In addition, a complete version of the Issues and Decision Memorandum can be accessed directly at http://enforcement.trade.gov/frn/. The signed Issues and Decision Memorandum and the electronic version of the Issues and Decision Memorandum are identical in content.

Methodology

The Department conducted this review in accordance with section 751(a)(1)(A) of the Tariff Act of 1930, as amended (Act). For each of the subsidy programs found countervailable, we find that there is a subsidy, i.e., a government-provided financial contribution that gives rise to a benefit to the recipient, and that the subsidy is specific.⁵ The Issues and Decision Memorandum contains a full description of the methodology underlying the Department's conclusions, including any determination that relied upon the use of adverse facts available pursuant to sections 776(a) and (b) of the Act.

⁵ See sections 771(5)(B) and (D) of the Act regarding financial contribution; section 771(5)(E) of the Act regarding benefit; and section 771(5A) of the Act regarding specificity.

Partial Rescission of Administrative Review

As noted in the Preliminary Results, the Department timely received no-shipment certifications from Changbai Mountain Development and Protection Zone Hongtu Wood Industrial Co., Ltd., Shenyang Senwang Wooden Industry Co., Ltd., and Jiangsu Yuhui International Trade Co., Ltd. The Department stated its intention to rescind the review with respect to these companies. The Department inquired with U.S. Customs and Border Protection (CBP) whether these companies had shipped merchandise to the United States during the POR, and CBP provided no evidence to contradict the claims of no shipments made by these companies. Accordingly, the Department is rescinding the administrative review of these companies, pursuant to 19 CFR 351.213(d)(3).

As noted in the Preliminary Results, three additional companies also filed timely no-shipment certifications: Henan Xingwangjia, Technology Co., Ltd., Dalian Xinjinghua Wood Co., Ltd., and Xuzhou Antop International Trade Co., Ltd. However, we continue to determine that there is sufficient evidence on the record of this review to conclude that these companies had reviewable transactions during the POR. Therefore, we are continuing to include these companies in this administrative review for the final results.

Rate for Non-Selected Companies Under Review

In this review, in addition to the two selected mandatory respondents, there are 104 companies for which a review was requested and not rescinded, but which were not selected for individual examination (non-selected respondents). To determine a rate for the non-selected respondents, we followed the Department's practice, which is to derive an average of the subsidy rates calculated for those companies selected for individual review, excluding de minimis rates or rates based entirely on adverse facts available. In this case, we assigned to the non-selected respondents the simple average of the rates calculated for Fine Furniture and Penghong. Instead of a weighted average, we are using a simple average as it provides a reasonable proxy for a weighted-average rate and protects business proprietary data otherwise necessary for deriving a weighted average.

Final Results of Administrative Review

In accordance with 19 CFR 351.221(b)(4)(i), we determine the following net subsidy rates for the 2014 administrative review.

Producer/exporter | Subsidy rate (percent)
Dalian Penghong Floor Products Co., Ltd. | 1.45
Dalian Shumaike Floor Manufacturing Co. Ltd.
Fine Furniture (Shanghai) Limited | 0.67

Review-Specific Average Rate Applicable to the Following Non-Selected Companies:

Producer/exporter | Subsidy rate (percent)
A&W (Shanghai) Woods Co., Ltd. | 1.06
Anhui Boya Bamboo & Wood Products Co., Ltd. | 1.06
Anhui Longhua Bamboo Product Co., Ltd. | 1.06
Baishan Huafeng Wood Product Co., Ltd. | 1.06
Baroque Timber Industries (Zhongshan) Co., Ltd. | 1.06
Baiying Furniture Manufacturer Co., Ltd. | 1.06
Benxi Wood Company | 1.06
Changzhou Hawd Flooring Co., Ltd. | 1.06
Cheng Hang Wood Co., Ltd. | 1.06
Chinafloors Timber (China) Co., Ltd. | 1.06
Dalian Dajen Wood Co., Ltd. | 1.06
Dalian Huade Wood Product Co., Ltd. | 1.06
Dalian Huilong Wooden Products Co., Ltd. | 1.06
Dalian Jiahong Wood Industry Co., Ltd | 1.06
Dalian Jiuyuan Wood Industry Co., Ltd. | 1.06
Dalian Kemian Wood Industry Co., Ltd. | 1.06
Dalian T-Boom Wood Products Co., Ltd. | 1.06
Dalian Xinjinghua Wood Co., Ltd. | 1.06
Dongtai Fuan Universal Dynamics, LLC | 1.06
Dongtai Zhangshi Wood Industry Co. Ltd. | 1.06
Dun Hua City Jisen Wood Industry Co., Ltd. | 1.06
Dun Hua Sen Tai Wood Co., Ltd. | 1.06
Dunhua City Dexin Wood Industry Co., Ltd. | 1.06
Dunhua City Hongyuan Wood Industry Co., Ltd. | 1.06
Dunhua City Wanrong Wood Industry Co., Ltd. | 1.06
Fu Lik Timber (HK) Co., Ltd. | 1.06
Fusong Jinlong Wooden Group Co., Ltd. | 1.06
Fusong Qianqiu Wooden Product Co., Ltd. | 1.06
GTP International Ltd. | 1.06
Guangdong Yihua Timber Industry Co., Ltd. | 1.06
Guangzhou Homebon Timber Manufacturing Co., Ltd. | 1.06
Guangzhou Panyu Kangda Board Co., Ltd. | 1.06
Guangzhou Panyu Southern Star Co., Ltd. | 1.06
HaiLin LinJing Wooden Products, Ltd. | 1.06
HaiLin XinCheng Wooden Products, Ltd. | 1.06
Hangzhou Dazhuang Floor Co., Ltd. (dba Dasso Industrial Group Co., Ltd.) | 1.06
Hangzhou Hanje Tec Co., Ltd. | 1.06
Hangzhou Huahi Wood Industry Co., Ltd. | 1.06
Henan Xingwangjia Technology Co., Ltd. | 1.06
Huber Engineering Wood Corp. | 1.06
Hunchun Forest Wolf Wooden Industry Co., Ltd. | 1.06
Hunchun Xingjia Wooden Flooring Inc. | 1.06
Huzhou City Nanxun Guangda Wood Co., Ltd. | 1.06
Huzhou Chenghang Wood Co., Ltd. | 1.06
Huzhou Fulinmen Imp. & Exp. Co., Ltd. | 1.06
Huzhou Fuma Wood Co., Ltd. | 1.06
Huzhou Jesonwood Co., Ltd. | 1.06
Huzhou Muyun Wood Co., Ltd. | 1.06
Huzhou Sunergy World Trade Co., Ltd. | 1.06
Jiafeng Wood (Suzhou) Co., Ltd. | 1.06
Jiangsu Guyu International Trading Co., Ltd. | 1.06
Jiangsu Keri Wood Co., Ltd. | 1.06
Jiangsu Mingle Flooring Co. | 1.06
Jiangsu Senmao Bamboo and Wood Industry Co., Ltd. | 1.06
Jiangsu Simba Flooring Co., Ltd. | 1.06
Jiashan Huijiale Decoration Material Co., Ltd. | 1.06
Jiashan On-Line Lumber Co., Ltd. | 1.06
Jiaxing Hengtong Wood Co., Ltd. | 1.06
Jilin Forest Industry Jinqiao Flooring Group Co., Ltd. | 1.06
Jilin Xinyuan Wooden Industry Co., Ltd. | 1.06
Karly Wood Product Limited | 1.06
Kemian Wood Industry (Kunshan) Co., Ltd. | 1.06
Kingman Floors Co., Ltd. | 1.06
Linyi Anying Wood Co., Ltd. | 1.06
Linyi Bonn Flooring Manufacturing Co., Ltd. | 1.06
Linyi Youyou Wood Co., Ltd. | 1.06
Mudanjiang Bosen Wood Industry Co., Ltd. | 1.06
Nakahiro Jyou Sei Furniture (Dalian) Co., Ltd. | 1.06
Pinge Timber Manufacturing (Zhejiang) Co., Ltd. | 1.06
Puli Trading Limited | 1.06
Qingdao Barry Flooring Co., Ltd | 1.06
Riverside Plywood Corporation | 1.06
Samling Elegant Living Trading (Labuan) Limited | 1.06
Samling Riverside Co., Ltd. | 1.06
Shandong Kaiyuan Wood Industry Co., Ltd. | 1.06
Shanghai Anxin (Weiguang) Timber Co., Ltd. | 1.06
Shanghai Eswell Timber Co., Ltd. | 1.06
Shanghai Lairunde Wood Co., Ltd | 1.06
Shanghai Lizhong Wood Products Co., Ltd. (also known as The Lizhong Wood Industry Limited Company of Shanghai) | 1.06
Shanghai New Sihe Wood Co., Ltd. | 1.06
Shanghai Shenlin Corporation | 1.06
Shenyang Haobainian Wooden Co., Ltd. | 1.06
Shenzhenshi Huanwei Woods Co., Ltd. | 1.06
Sino-Maple (Jiangsu) Co., Ltd. | 1.06
Suzhou Dongda Wood Co., Ltd.(8M) | 1.06
Tongxiang Jisheng Import and Export Co., Ltd. | 1.06
Vicwood Industry (Suzhou) Co. Ltd. | 1.06
Xiamen Yung De Ornament Co., Ltd. | 1.06
Xuzhou Antop International Trade Co., Ltd. | 1.06
Xuzhou Shenghe Wood Co., Ltd. | 1.06
Yekalon Industry, Inc. | 1.06
Yingyi-Nature (Kunshan) Wood Industry Co., Ltd. | 1.06
Yixing Lion-King Timber Industry | 1.06
Zhejiang AnJi Xinfeng Bamboo and Wood Industry Co., Ltd. | 1.06
Zhejiang Biyork Wood Co., Ltd. | 1.06
Zhejiang Dadongwu Green Home Wood Co., Ltd. | 1.06
Zhejiang Desheng Wood Industry Co., Ltd. | 1.06
Zhejiang Fudeli Timber Industry Co., Ltd. | 1.06
Zhejiang Fuerjia Wooden Co., Ltd. | 1.06
Zhejiang Fuma Warm Technology Co., Ltd. | 1.06
Zhejiang Haoyun Wooden Co., Ltd. | 1.06
Zhejiang Longsen Lumbering Co., Ltd. | 1.06
Zhejiang Shiyou Timber Co., Ltd. | 1.06
Zhejiang Shuimojiangnan New Material Technology Co., Ltd. | 1.06

Assessment Rates

The Department intends to issue assessment instructions to CBP 15 days after the date of publication of these final results of review, to liquidate shipments of subject merchandise entered, or withdrawn from warehouse, for consumption on or after January 1, 2014, through December 31, 2014, at the ad valorem rates listed above.

Cash Deposit Instructions

In accordance with section 751(a)(1) of the Act, the Department intends to instruct CBP to collect cash deposits of estimated countervailing duties in the amounts shown for each of the respective companies listed above. For all non-reviewed firms, we will instruct CBP to continue to collect cash deposits at the most recent company-specific or all-others rate applicable to the company. These cash deposit requirements, when imposed, shall remain in effect until further notice.

Administrative Protective Orders

This notice also serves as a reminder to parties subject to administrative protective order (APO) of their responsibility concerning the destruction of proprietary information disclosed under APO in accordance with 19 CFR 351.305(a)(3). Timely written notification of the return or destruction of APO materials or conversion to judicial protective order is hereby requested. Failure to comply with the regulations and terms of an APO is a sanctionable violation.

We are issuing and publishing these results in accordance with sections 751(a)(1) and 777(i)(1) of the Act.

Dated: May 9, 2017.
Gary Taverman,
Associate Deputy Assistant Secretary for Antidumping and Countervailing Duty Operations.

Appendix I

List of Topics Discussed in the Final Decision Memorandum

I. Summary

II. Background

III. List of Interested Party Comments

IV. Scope of the Order

V. Partial Rescission of Administrative Review

VI. Subsidies Valuation Information

VII. Loan Benchmark Rates

VIII. Use of Facts Otherwise Available and Adverse Facts Available and Corroboration of Secondary Information

IX. Programs Determined to Be Countervailable

X. Programs Determined Not to Confer Measurable Benefits

XI. Programs Determined Not to Be Used

XII. Ad Valorem Rate for Non-Selected Companies Under Review

XIII. Analysis of Comments

Comment 1: Whether the Provision of Electricity Is Regionally-Specific

Comment 2: Whether the Department Improperly Compared VAT-Inclusive Electricity Benchmarks to VAT-Exclusive Paid Electricity Prices and Whether the Department Should Remove VAT from the Comparison

Comment 3: Whether Fine Furniture's Electricity Subsidy Rate Was Calculated Correctly

Comment 4: Whether Additional Fees Are Properly Included in the Benchmark Comparison Used in the Electricity for LTAR Program

Comment 5: Whether the Potential Rectification Fund for Safe Production Is Specific

Comment 6: Whether Fine Furniture's 2010 Sales Value Is Correctly Reflected in the Final Results

Comment 7: Whether the Allowance for Attorney's Fees Program Is Countervailable

Comment 8: Whether the Patent Application Support Program Is Specific

XIV. Conclusion

[FR Doc. 2017-09746 Filed 5-12-17; 8:45 am]

BILLING CODE 3510-DS-P